DEPARTMENT OF HEALTH AND HUMAN SERVICES

Administration for Children and Families

Submission for OMB Review; Comment Request

Title: Form ACF-IV-E-1: Title VI-E Foster Care and Adoption Assistance Financial Report.

OMB No.: 0970-0205.

Description: State agencies administer the Foster Care and Adoption Assistance Programs under Title IV-E of the Social Security Act. The Administration for Children and Families (ACF) provides Federal funding at the rate of 50 percent for most administrative and other related costs and at an enhanced rate of 75 percent for training costs as detailed in Federal statute and regulations. This form is submitted quarterly by each State to estimate the funding needs for the upcoming fiscal quarter and to report expenditures for the fiscal quarter just ended. This form is also used to provide annual budget projections from each State. The information collected in this report is used by this agency to calculate quarterly Federal grant awards and to enable this agency to submit budget requests to Congress through the Department and to enable oversight of the financial management of the programs.

Comments have been sent to the ACF Office of Grants Management, both directly and in response to an earlier Federal Register Notice (70 FR 29318, May 20, 2005), which provided many useful recommendations to update and improve this financial reporting form.

Whenever a financial reporting form is revised, conforming changes are also required in the computerized financial and grant data entry system maintained by ACF and in similar financial systems maintained by each State grantee. We believe that insufficient time remains to permit all these changes to be completed to accommodate the introduction of a revised reporting form by the January 30, 2006, expiration date of the OMB approval of the existing form. In addition, the Government Accountability Office (GAO) is currently conducting a thorough review of administrative costs of both programs under Title IV-E and does not anticipate publication of its final report before spring 2006. As part of its review, GAO is including the reporting requirements of the existing quarterly report and may include recommendations to revise this report in its findings.

For these reasons, we have determined it would not be feasible to introduce revised reporting requirements at this time, especially before we have had the opportunity to thoroughly review the upcoming GAO report and whatever relevant recommendations it may contain. Therefore, we are requesting that the expiration date of the existing forms be extended, without change, through September 340, 2008, with the understanding that a revised report will be introduced before that date as conditions warrant.

Respondents: State agencies administering the Foster Care and Adoption Assistance Programs.

Annual Burden Estimates
Instrument | Number of respondents | Number of responses per respondent | Average burden hours per response | Total burden hours
Form ACF-IV-E-1 | 52 | 4 | 17 | 3,536

Estimated Total Annual Burden Hours: 3,536.

Additional Information: Copies of the proposed collection may be obtained by writing to the Administration for Children and Families, Office of Administration, Office of Information Services, 370 L'Enfant Promenade, SW., Washington, DC 20447. E-mail: infocollection@acf.hhs.gov. Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reducation Project, Attn: Desk Officer for ACF, E-mail address: Katherine_T._Astrich@omb.eop.gov.

Dated: November 15, 2005.
Robert Sargis,
Reports Clearance Officer.

[FR Doc. 05-23083 Filed 11-21-05; 8:45 am]

BILLING CODE 4184-01-M